DEPARTMENT OF HOMELAND SECURITY

Notice Regarding the Uyghur Forced Labor Prevention Act Entity List

AGENCY: Department of Homeland Security.

ACTION: Notice.

SUMMARY: The U.S. Department of Homeland Security (DHS), as the Chair of the Forced Labor Enforcement Task Force (FLETF), announces the publication and availability of the updated Uyghur Forced Labor Prevention Act (UFLPA) Entity List, a consolidated register of the four lists required to be developed and maintained pursuant to section 2(d)(2)(B) of the UFLPA, on the DHS UFLPA website. The updated UFLPA Entity List is also published as an appendix to this notice. This update adds twenty-six entities to the section 2(d)(2)(B)(v) list of the UFLPA, which identifies facilities and entities that source material from Xinjiang Uyghur Autonomous Region or from persons working with the government of Xinjiang or the Xinjiang Production and Construction Corps for purposes of the “poverty alleviation” program or the “pairing-assistance” program or any other government labor scheme that uses forced labor. Details related to the process for revising the UFLPA Entity List are included in this Federal Register notice.

DATES: This notice announces the publication and availability of the UFLPA Entity List updated as of May 17, 2024, included as an appendix to this notice.

ADDRESSES: Persons seeking additional information on the UFLPA Entity List should email the FLETF at FLETF.UFLPA.EntityList@hq.dhs.gov.

FOR FURTHER INFORMATION CONTACT: LeRoy Potts, Director, Entity List Office, Trade and Economic Security, Office of Strategy, Policy, and Plans, DHS. Phone: (202) 891-2331, Email: FLETF.UFLPA.EntityList@hq.dhs.gov.

SUPPLEMENTARY INFORMATION: The U.S. Department of Homeland Security (DHS), on behalf of the Forced Labor Enforcement Task Force (FLETF), is announcing the publication of the updated UFLPA Entity List, a consolidated register of the four lists required to be developed and maintained pursuant to section 2(d)(2)(B) of the Uyghur Forced Labor Prevention Act (Pub. L. 117-78) (UFLPA), to https://www.dhs.gov/uflpa-entity-list. The UFLPA Entity List is available as an appendix to this notice. This update adds twenty-six entities to the section 2(d)(2)(B)(v) list of the UFLPA, which identifies facilities and entities that source material from Xinjiang Uyghur Autonomous Region or from persons working with the government of Xinjiang or the Xinjiang Production and Construction Corps for purposes of the “poverty alleviation” program or the “pairing-assistance” program or any other government labor scheme that uses forced labor. Future revisions to the UFLPA Entity List, which may include additions, removals or technical corrections, will be published to https://www.dhs.gov/uflpa-entitylist and in the appendices of future Federal Register notices. See Appendix 1.

Beginning on June 21, 2022, the UFLPA requires the Commissioner of U.S. Customs and Border Protection to apply a rebuttable presumption that goods mined, produced, or manufactured by entities on the UFLPA Entity List are made with forced labor, and therefore, prohibited from importation into the United States under 19 U.S.C. 1307. See section 3(a) of the UFLPA. As the FLETF revises the UFLPA Entity List, including by making additions, removals, or technical corrections, DHS, on its behalf, will post such revisions to the DHS UFLPA website (https://www.dhs.gov/uflpa-entity-list) and also publish the revised UFLPA Entity List as an appendix to a Federal Register notice.

Background

A. The Forced Labor Enforcement Task Force

Section 741 of the United States-Mexico-Canada Agreement Implementation Act established the FLETF to monitor United States enforcement of the prohibition under section 307 of the Tariff Act of 1930, as amended (19 U.S.C. 1307). See 19 U.S.C. 4681. Pursuant to DHS Delegation Order No. 23034, the DHS Under Secretary for Strategy, Policy, and Plans serves as Chair of the FLETF, an interagency task force that includes the Department of Homeland Security, the Office of the U.S. Trade Representative, and the Departments of Labor, State, Justice, the Treasury, and Commerce (member agencies).¹ See 19 U.S.C. 4681; Executive Order 13923 (May 15, 2020). In addition, the FLETF includes six observer agencies: the Departments of Energy and Agriculture, the U.S. Agency for International Development, the National Security Council, U.S. Customs and Border Protection, and U.S. Immigration and Customs Enforcement Homeland Security Investigations.

¹ The U.S. Department of Homeland Security, as the FLETF Chair, has the authority to invite representatives from other executive departments and agencies, as appropriate. See Executive Order 13923 (May 15, 2020). The U.S. Department of Commerce is a member of the FLETF as invited by the Chair.

B. The Uyghur Forced Labor Prevention Act: Preventing Goods Made With Forced Labor in the People's Republic of China From Being Imported Into the United States

The UFLPA requires, among other things, that the FLETF, in consultation with the Secretary of Commerce and the Director of National Intelligence, develop a strategy (UFLPA section 2(c)) for supporting enforcement of section 307 of the Tariff Act of 1930, to prevent the importation into the United States of goods, wares, articles, and merchandise mined, produced, or manufactured wholly or in part with forced labor in the People's Republic of China. As required by the UFLPA, the Strategy to Prevent the Importation of Goods Mined, Produced, or Manufactured with Forced Labor in the People's Republic of China, which was published on the DHS website on June 17, 2022 (see https://www.dhs.gov/uflpa-strategy), includes the initial UFLPA Entity List, a consolidated register of the four lists required to be developed and maintained pursuant to the UFLPA. See UFLPA section 2(d)(2)(B).

C. UFLPA Entity List

The UFLPA Entity List addresses distinct requirements set forth in clauses (i), (ii), (iv), and (v) of section 2(d)(2)(B) of the UFLPA that the FLETF identify and publish the following four lists:

(1) a list of entities in the Xinjiang Uyghur Autonomous Region that mine, produce, or manufacture wholly or in part any goods, wares, articles, and merchandise with forced labor;

(2) a list of entities working with the government of the Xinjiang Uyghur Autonomous Region to recruit, transport, transfer, harbor or receive forced labor or Uyghurs, Kazakhs, Kyrgyz, or members of other persecuted groups out of the Xinjiang Uyghur Autonomous Region;

(3) a list of entities that exported products made by entities in lists 1 and 2 from the People's Republic of China into the United States; and

(4) a list of facilities and entities, including the Xinjiang Production and Construction Corps, that source material from the Xinjiang Uyghur Autonomous Region or from persons working with the government of Xinjiang or the Xinjiang Production and Construction Corps for purposes of the “poverty alleviation” program or the “pairing-assistance” program or any other government-labor scheme that uses forced labor.

The UFLPA Entity List is a consolidated register of the above four lists. In accordance with section 3(e) of the UFLPA, effective June 21, 2022, entities on the UFLPA Entity List (listed entities) are subject to the UFLPA's rebuttable presumption that products they produce, wholly or in part, are prohibited from entry into the United States under 19 U.S.C. 1307. The UFLPA Entity List is described in Appendix 1 to this notice. The UFLPA Entity List should not be interpreted as an exhaustive list of entities engaged in the practices described in clauses (i), (ii), (iv), or (v) of section 2(d)(2)(B) of the UFLPA.

Revisions to the UFLPA Entity List, including all additions, removals, and technical corrections, will be published on the DHS UFLPA website (https://www.dhs.gov/uflpa-entity-list) and as an Appendix to a notice that will be published in the Federal Register. See Appendix 1. The FLETF will consider future additions to, or removals from, the UFLPA Entity List based on criteria described in clauses (i), (ii), (iv), or (v) of section 2(d)(2)(B) of the UFLPA. Any FLETF member agency may submit a recommendation(s) to add, remove or make technical corrections to an entry on the UFLPA Entity List. FLETF member agencies will review and vote on revisions to the UFLPA Entity List accordingly.

Additions to the Entity List

The FLETF will consider future additions to the UFLPA Entity List based on the criteria described in clauses (i), (ii), (iv), or (v) of section 2(d)(2)(B) of the UFLPA. Any FLETF member agency may submit a recommendation to the FLETF Chair to add an entity to the UFLPA Entity List. Following review of the recommendation by the FLETF member agencies, the decision to add an entity to the UFLPA Entity List will be made by majority vote of the FLETF member agencies.

Requests for Removal From the Entity List

Any listed entity may submit a request for removal (removal request) from the UFLPA Entity List along with supporting information to the FLETF Chair at FLETF.UFLPA.EntityList@hq.dhs.gov. In the removal request, the entity (or its designated representative) should provide information that demonstrates that the entity no longer meets or does not meet the criteria described in the applicable clause ((i), (ii), (iv), or (v)) of section 2(d)(2)(B) of the UFLPA. The FLETF Chair will refer all such removal requests and supporting information to FLETF member agencies. Upon receipt of the removal request, the FLETF Chair or the Chair's designated representative may contact the entity on behalf of the FLETF regarding questions on the removal request and may request additional information. Following review of the removal request by the FLETF member agencies, the decision to remove an entity from the UFLPA Entity List will be made by majority vote of the FLETF member agencies.

Listed entities may request a meeting with the FLETF after submitting a removal request in writing to the FLETF Chair at FLETF.UFLPA.EntityList@hq.dhs.gov. Following its review of a removal request, the FLETF may accept the meeting request at the conclusion of the review period and, if accepted, will hold the meeting prior to voting on the entity's removal request. The FLETF Chair will advise the entity in writing of the FLETF's decision on its removal request. While the FLETF's decision on a removal request is not appealable, the FLETF will consider new removal requests if accompanied by new information.

Robert Silvers,
Under Secretary, Office of Strategy, Policy, and Plans, U.S. Department of Homeland Security.

Appendix 1

This notice supersedes the UFLPA Entity List published in the Federal Register on December 11, 2023 (88 FR 85899). The UFLPA Entity List as of May 17, 2024 is available in this appendix and is published on https://www.dhs.gov/uflpa-entity-list. This update adds twenty-six entities to the section 2(d)(2)(B)(v) list of the UFLPA, which identifies facilities and entities that source material from the Xinjiang Uyghur Autonomous Region or from persons working with the government of Xinjiang or the Xinjiang Production and Construction Corps for purposes of the “poverty alleviation” program or the “pairing-assistance” program or any other government labor scheme that uses forced labor. The twenty-six entities listed are cotton traders or warehouse facilities that the United States government has reasonable cause to believe, based on specific and articulable information, source cotton from the Xinjiang Uyghur Autonomous Region. That specific and articulable information includes an online wholesale platform that, as recently as April of 2024, marketed cotton sourced from the Xinjiang Uyghur Autonomous Region for sale by twenty-one of the listed entities, as well as corporate documents, websites, or media reports indicating that five other listed entities source cotton from the Xinjiang Uyghur Autonomous Region. Given information that indicates all twenty-six companies source cotton from the Xinjiang Uyghur Autonomous Region, the FLETF determined that the activities of the entities satisfy the criteria for addition to the section 2(d)(2)(B)(v) list of the UFLPA.

• Binzhou Chinatex Yintai Industrial Co., Ltd.,

• China Cotton Group Henan Logistics Park Co., Ltd., Xinye Branch,

• China Cotton Group Nangong Hongtai Cotton Co., Ltd.,

• China Cotton Group Shandong Logistics Park Co., Ltd.,

• China Cotton Group Xinjiang Cotton Co.,

• Fujian Minlong Warehousing Co., Ltd.,

• Henan Yumian Group Industrial Co., Ltd.,

• Henan Yumian Logistics Co., Ltd. (formerly known as 841 Cotton Transfer Warehouse),

• Hengshui Cotton and Linen Corporation Reserve Library,

• Heze Cotton and Linen Co., Ltd.,

• Heze Cotton and Linen Economic and Trade Development Corporation (also known as Heze Cotton and Linen Trading Development General Company),

• Huangmei Xiaochi Yinfeng Cotton (formerly known as Hubei Provincial Cotton Corporation's Xiaochi Transfer Reserve),

• Hubei Jingtian Cotton Industry Group Co., Ltd.,

• Hubei Qirun Investment Development Co., Ltd.,

• Hubei Yinfeng Cotton Co., Ltd.,

• Hubei Yinfeng Warehousing and Logistics Co., Ltd.,

• Jiangsu Yinhai Nongjiale Storage Co., Ltd.,

• Jiangsu Yinlong Warehousing and Logistics Co., Ltd.,

• Jiangyin Lianyun Co. Ltd. (also known as Jiangyin Intermodal Transport Co. and Jiangyin United Transport Co.),

• Jiangyin Xiefeng Cotton and Linen Co., Ltd.,

• Juye Cotton and Linen Station of the Heze Cotton and Linen Corporation,

• Lanxi Huachu Logistics Co., Ltd.,

• Linxi County Fangpei Cotton Buying and Selling Co., Ltd.,

• Nanyang Hongmian Logistics Co., Ltd. (also known as Nanyang Red Cotton Logistics Co., Ltd.),

• Wugang Zhongchang Logistics Co., Ltd.,

• Xinjiang Yinlong Agricultural International Cooperation Co.

No technical corrections or removals are being made to the UFLPA Entity List at this time.

The UFLPA Entity List is a consolidated register of the four lists that are required to be developed and maintained pursuant to section 2(d)(2)(B) of the UFLPA. Sixty-five entities ² that meet the criteria set forth in the four required lists (see sections 2(d)(2)(B)(i), (ii), (iv), and (v) of the UFLPA) are specified on the UFLPA Entity List.

² Since the most recent update published on December 11, 2023, the FLETF has updated the method it uses to count the number of entities. Beginning with this update, the FLETF now individually counts all named subsidiaries. This change increases the total count by nine, to account for subsidiaries identified in the June 12, 2023 (Federal Register:: Notice Regarding the Uyghur Forced Labor Prevention Act Entity List) and August 2, 2023 (Federal Register:: Notice Regarding the Uyghur Forced Labor Prevention Act Entity List).

UFLPA Entity List May 17, 2024

UFLPA Section 2(d)(2)(B)(i) A List of Entities in Xinjiang That Mine, Produce, or Manufacture Wholly or in Part any Goods, Wares, Articles, and Merchandise With Forced Labor

Baoding LYSZD Trade and Business Co., Ltd.

Changji Esquel Textile Co. Ltd. (and one alias: Changji Yida Textile)

Hetian Haolin Hair Accessories Co. Ltd. (and two aliases: Hotan Haolin Hair Accessories; and Hollin Hair Accessories)

Hetian Taida Apparel Co., Ltd (and one alias: Hetian TEDA Garment)

Hoshine Silicon Industry (Shanshan) Co., Ltd (including one alias: Hesheng Silicon Industry (Shanshan) Co.) and subsidiaries

Xinjiang Daqo New Energy, Co. Ltd (including three aliases: Xinjiang Great New Energy Co., Ltd.; Xinjiang Daxin Energy Co., Ltd.; and Xinjiang Daqin Energy Co., Ltd.)

Xinjiang East Hope Nonferrous Metals Co. Ltd. (including one alias: Xinjiang Nonferrous)

Xinjiang GCL New Energy Material Technology, Co. Ltd (including one alias: Xinjiang GCL New Energy Materials Technology Co.)

Xinjiang Junggar Cotton and Linen Co., Ltd.

Xinjiang Production and Construction Corps (including three aliases: XPCC; Xinjiang Corps; and Bingtuan) and its subordinate and affiliated entities

UFLPA Section 2(d)(2)(B)(ii) A List of Entities Working With the Government of Xinjiang To Recruit, Transport, Transfer, Harbor or Receive Forced Labor or Uyghurs, Kazakhs, Kyrgyz, or Members of Other Persecuted Groups out of Xinjiang

Aksu Huafu Textiles Co. (including two aliases: Akesu Huafu and Aksu Huafu Dyed Melange Yarn)

Anhui Xinya New Materials Co., Ltd. (formerly known as Chaohu Youngor Color Spinning Technology Co., Ltd.; and Chaohu Xinya Color Spinning Technology Co., Ltd.)

Camel Group Co., Ltd.

COFCO Sugar Holdings Co., Ltd.

Geehy Semiconductor Co., Ltd.

Hefei Bitland Information Technology Co., Ltd. (including three aliases: Anhui Hefei Baolongda Information Technology; Hefei Baolongda Information Technology Co., Ltd.; and Hefei Bitland Optoelectronic Technology Co., Ltd.)

Hefei Meiling Co. Ltd. (including one alias: Hefei Meiling Group Holdings Limited).

KTK Group (including three aliases: Jiangsu Jinchuang Group; Jiangsu Jinchuang Holding Group; and KTK Holding)

Lop County Hair Product Industrial Park

Lop County Meixin Hair Products Co., Ltd.

Nanjing Synergy Textiles Co., Ltd. (including two aliases: Nanjing Xinyi Cotton Textile Printing and Dyeing; and Nanjing Xinyi Cotton Textile).

Ninestar Corporation

No. 4 Vocation Skills Education Training Center (VSETC)

Sichuan Jingweida Technology Group Co., Ltd. (also known as Sichuan Mianyang Jingweida Technology Co., Ltd. and JWD Technology; and formerly known as Mianyang High-tech Zone Jingweida Technology Co., Ltd.)

Tanyuan Technology Co. Ltd. (including five aliases: Carbon Yuan Technology; Changzhou Carbon Yuan Technology Development; Carbon Element Technology; Jiangsu Carbon Element Technology; and Tanyuan Technology Development).

Xinjiang Production and Construction Corps (XPCC) and its subordinate and affiliated entities

Xinjiang Tianmian Foundation Textile Co., Ltd.

Xinjiang Tianshan Wool Textile Co. Ltd.

Xinjiang Zhongtai Chemical Co. Ltd.

Xinjiang Zhongtai Group Co. Ltd

Zhuhai Apex Microelectronics Co., Ltd.

Zhuhai G&G Digital Technology Co., Ltd.

Zhuhai Ninestar Information Technology Co. Ltd.

Zhuhai Ninestar Management Co., Ltd.

Zhuhai Pantum Electronics Co. Ltd.

Zhuhai Pu-Tech Industrial Co., Ltd.

Zhuhai Seine Printing Technology Co., Ltd.

UFLPA Section 2(d)(2)(B)(iv) A List of Entities That Exported Products Described in Clause (iii) From the People's Republic of China Into the United States

Entities identified in sections (i) and (ii) above may serve as both manufacturers and exporters. The FLETF has not identified additional exporters at this time but will continue to investigate and gather information about additional entities that meet the specified criteria.

UFLPA Section 2(d)(2)(B)(v) A List of Facilities and Entities, Including the Xinjiang Production and Construction Corps, That Source Material From Xinjiang or From Persons Working With the Government of Xinjiang or the Xinjiang Production and Construction Corps for Purposes of the “Poverty Alleviation” Program or the “Pairing-Assistance” Program or any Other Government Labor Scheme That Uses Forced Labor

Baoding LYSZD Trade and Business Co., Ltd.

Binzhou Chinatex Yintai Industrial Co., Ltd.

Chenguang Biotech Group Co., Ltd.

Chenguang Biotechnology Group Yanqi Co. Ltd.

China Cotton Group Henan Logistics Park Co., Ltd., Xinye Branch

China Cotton Group Nangong Hongtai Cotton Co., Ltd.

China Cotton Group Shandong Logistics Park Co., Ltd.

China Cotton Group Xinjiang Cotton Co.

Fujian Minlong Warehousing Co., Ltd.

Hefei Bitland Information Technology Co. Ltd.

Henan Yumian Group Industrial Co., Ltd.

Henan Yumian Logistics Co., Ltd. (formerly known as 841 Cotton Transfer Warehouse)

Hengshui Cotton and Linen Corporation Reserve Library

Hetian Haolin Hair Accessories Co. Ltd.

Hetian Taida Apparel Co., Ltd.

Heze Cotton and Linen Co., Ltd.

Heze Cotton and Linen Economic and Trade Development Corporation (also known as Heze Cotton and Linen Trading Development General Company)

Hoshine Silicon Industry (Shanshan) Co., Ltd., and Subsidiaries

Huangmei Xiaochi Yinfeng Cotton (formerly known as Hubei Provincial Cotton Corporation's Xiaochi Transfer Reserve)

Hubei Jingtian Cotton Industry Group Co., Ltd.

Hubei Qirun Investment Development Co., Ltd.

Hubei Yinfeng Cotton Co., Ltd.

Hubei Yinfeng Warehousing and Logistics Co., Ltd.

Jiangsu Yinhai Nongjiale Storage Co., Ltd.

Jiangsu Yinlong Warehousing and Logistics Co., Ltd.

Jiangyin Lianyun Co. Ltd. (also known as Jiangyin Intermodal Transport Co. and Jiangyin United Transport Co.)

Jiangyin Xiefeng Cotton and Linen Co., Ltd.

Juye Cotton and Linen Station of the Heze Cotton and Linen Corporation

Lanxi Huachu Logistics Co., Ltd.

Linxi County Fangpei Cotton Buying and Selling Co., Ltd.

Lop County Hair Product Industrial Park

Lop County Meixin Hair Products Co., Ltd.

Nanyang Hongmian Logistics Co., Ltd. (also known as Nanyang Red Cotton Logistics Co., Ltd.)

No. 4 Vocation Skills Education Training Center (VSETC)

Wugang Zhongchang Logistics Co., Ltd.

Xinjiang Junggar Cotton and Linen Co., Ltd.

Xinjiang Production and Construction Corps (XPCC) and its subordinate and affiliated entities

Xinjiang Yinlong Agricultural International Cooperation Co.

Yili Zhuowan Garment Manufacturing Co., Ltd.

[FR Doc. 2024-10544 Filed 5-16-24; 8:45 am]

BILLING CODE 9110-9M-P